DEPARTMENT OF AGRICULTURE

Submission for OMB Review; Comment Request

March 15, 2017.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 19, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: (7 CFR part 767), Farm Loan Program—Inventory Property Management.

OMB Control Number: 0560-0234.

Summary of Collection: The Farm Loan Program provides supervised credit in the form of loans to family farmers to purchase real estate and equipment and finance agricultural production. Authority to establish the regulatory requirements contained in 7 CFR 767 is provided under section 302 of the Act (7 U.S.C. 1922) which provides that “the Secretary is authorized to make and insure under this title to farmers . . .” Section 339 of the Act (7 U.S.C. 1989) further provides that “the Secretary is authorized to make such rules and regulations, prescribe the terms and conditions for making . . . loans, security instruments and agreements, except as otherwise specified herein, and to make such delegations of authority as he deems necessary to carry out this title.”

Need and use of the Information: Information collections are submitted by applicants to the local agency office serving the country in which their business is headquartered. The information is necessary to thoroughly evaluate an applicant's request to purchase inventory property and is used by the agency to determine an applicant's eligibility to lease or purchase inventory property and to ensure payment of the lease or purchase amount.

Description of respondents: Business or other for-profit; Farms.

Number of respondents: 351.

Frequency of responses: Reporting: On occasion; Annually.

Total burden hours: 616.

Ruth Brown,
Departmental Information Collection Clearance Officer.

[FR Doc. 2017-05421 Filed 3-17-17; 8:45 am]

BILLING CODE 3410-05-P